COMMITTEE FOR THE IMPLEMENTATION OF TEXTILE AGREEMENTS

Request for Public Comments on Commercial Availability Request under the United States-Caribbean Basin Trade Partnership Act (CBTPA)

June 3, 2005.

AGENCY: Committee for the Implementation of Textile Agreements (CITA)

ACTION: Request for public comments concerning a request for a determination that certain 100 percent cotton, yarn dyed, seersucker fabrics cannot be supplied by the domestic industry in commercial quantities in a timely manner under the CBTPA.

SUMMARY: On June 1, 2005, the Chairman of CITA received a petition from Sandler, Travis & Rosenberg, P.A., on behalf of their client B*W*A of New York City, alleging that certain 100 percent cotton, yarn dyed, plain weave double warp beam seersucker fabrics, of specifications detailed below, classified in subheadings 5208.42.30, 5208.42.40, 5208.42.50, and 5209.41.60 of the Harmonized Tariff Schedule of the United States (HTSUS), cannot be supplied by the domestic industry in commercial quantities in a timely manner. The petition requests that woven shirts, blouses, and sleepwear of such fabrics be eligible for preferential treatment under the CBTPA. CITA hereby solicits public comments on this request, in particular with regard to whether such fabrics can be supplied by the domestic industry in commercial quantities in a timely manner. Comments must be submitted by June 23, 2005 to the Chairman, Committee for the Implementation of Textile Agreements, Room 3001, United States Department of Commerce, 14th and Constitution Avenue, N.W. Washington, D.C. 20230.

FOR FURTHER INFORMATION CONTACT: Richard Stetson, International Trade Specialist, Office of Textiles and Apparel, U.S. Department of Commerce, (202) 482-3400.

SUPPLEMENTARY INFORMATION:

Authority: Section 211(a) of the CBTPA, amending Section 213(b)(2)(A)(v)(II) of the Caribbean Basin Recovery Act (CBERA); Section 6 of Executive Order No. 13191 of January 17, 2001; Presidential Proclamations 7351 of October 2, 2000.

BACKGROUND:

The CBTPA provides for quota- and duty-free treatment for qualifying textile and apparel products. Such treatment is generally limited to products manufactured from yarns and fabrics formed in the United States or a beneficiary country. The CBTPA also provides for quota- and duty-free treatment for apparel articles that are both cut (or knit-to-shape) and sewn or otherwise assembled in one or more beneficiary countries from fabric or yarn that is not formed in the United States, if it has been determined that such fabric or yarn cannot be supplied by the domestic industry in commercial quantities in a timely manner. In Executive Order No. 13191, the President delegated to CITA the authority to determine whether yarns or fabrics cannot be supplied by the domestic industry in commercial quantities in a timely manner under the CBTPA and directed CITA to establish procedures to ensure appropriate public participation in any such determination. On March 6, 2001, CITA published procedures that it will follow in considering requests. (66 FR 13502).

On June 1, 2005 the Chairman of CITA received a petition from B*W*A alleging that certain 100 percent cotton, yarn dyed, plain weave double warp beam seersucker fabrics, of specifications detailed below, classified in HTSUS subheadings 5208.42.30, 5208.42.40, 5208.42.50, and 5209.41.60, for use in woven shirts, blouses, and sleepwear, cannot be supplied by the domestic industry in commercial quantities in a timely manner and requesting quota- and duty-free treatment under the CBTPA for such apparel articles that are both cut and sewn in one or more beneficiary countries from such fabrics.

Specifications:

Petitioner Style Number: | Various
Fiber Content: | 100% Cotton
Yarn Number: | (1) 33/1 - 119/1 metric warp;
| (2) 33/1 - 119/1 & 33/2 - 119/2 metric warp
| 33/1 - 119/1 metric filling;
| overall average yarn number: 30 - 115 metric
Thread Count: | 23 - 48 warp ends per centimeter; 19 - 40 filling picks per centimeter; total: 42 - 88 threads per square centimeter
Weave: | Plain weave double warp beam seersucker
Weight: | 101 - 255 grams per square meter
Width: | 136 - 152 centimeters
Finish: | Of yarns of different colors in both warp and filling

The petitioner states that one very important feature of the fabrics is that they are genuine seersucker fabrics, woven with two warp beams, one with half the warp yarns subject to normal warp tension, the other with the warp yarns in a relaxed or tensionless state. Thus, the unique “crinkled” appearance and feel of the finished fabric is achieved on the loom and enhanced in the dyeing and finishing process, not merely by dyeing and finishing alone.

CITA is soliciting public comments regarding this request, particularly with respect to whether these fabrics can be supplied by the domestic industry in commercial quantities in a timely manner. Also relevant is whether other fabrics that are supplied by the domestic industry in commercial quantities in a timely manner are substitutable for these fabrics for purposes of the intended use. Comments must be received no later than June 23, 2005. Interested persons are invited to submit six copies of such comments or information to the Chairman, Committee for the Implementation of Textile Agreements, room 3100, U.S. Department of Commerce, 14th and Constitution Avenue, N.W., Washington, DC 20230.

If a comment alleges that these fabrics can be supplied by the domestic industry in commercial quantities in a timely manner, CITA will closely review any supporting documentation, such as a signed statement by a manufacturer of the fabric stating that it produces the fabric that is the subject of the request, including the quantities that can be supplied and the time necessary to fill an order, as well as any relevant information regarding past production.

CITA will protect any business confidential information that is marked “business confidential” from disclosure to the full extent permitted by law. CITA generally considers specific details, such as quantities and lead times for providing the subject product as business confidential. However, information such as the names of domestic manufacturers who were contacted, questions concerning the capability to manufacture the subject product, and the responses thereto should be available for public review to ensure proper public participation in the process. If this is not possible, an explanation of the necessity for treating such information as business confidential must be provided. CITA will make available to the public non-confidential versions of the request and non-confidential versions of any public comments received with respect to a request in room 3100 in the Herbert Hoover Building, 14th and Constitution Avenue, N.W., Washington, DC 20230. Persons submitting comments on a request are encouraged to include a non-confidential version and a non-confidential summary.

D. Michael Hutchinson,
Acting Chairman, Committee for the Implementation of Textile Agreements.

[FR Doc.05-11475 Filed 6-6-05; 4:11 pm]

BILLING CODE 3510-DS-S